DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally funded research for the benefit of the public health.

FOR FURTHER INFORMATION CONTACT: Licensing information may be obtained by emailing the licensing contact Michael Shmilovich, Esq.; 301-435-5019; shmilovm@nih.gov, at the National Heart, Lung, and Blood, Office of Technology Transfer and Development, 31 Center Drive, Room 4A25, MSC2479, Bethesda, MD 20892-2479. A signed Confidential Disclosure Agreement may be required to receive any unpublished information.

SUPPLEMENTARY INFORMATION: This notice is in accordance with 35 U.S.C. 209 and 37 CFR part 404. Technology description follows.

Reversibly Photo-Switchable Fluorescent Proteins for Long-Term Imaging of Live Specimen

Available for research uses, collaboration, and further development are non-cytotoxic reversibly photo-switchable fluorescent mutant proteins that may be locked in a state of high brightness, which may be useful for long-term biomedical applications at routine laser power intensity. Additionally, these proteins offer quick self-recovery of peak fluorescence, which may be useful for imaging of rapid cellular processes.

Inventors

• Vitaly Boyko, Ph.D. (NIBIB)

• George Patterson, Ph.D. (NIBIB)

• Md Abdul Kader Sagar, Ph.D. (NIBIB)

Potential Applications

• Long-term imaging of live specimen, including light-sensitive specimen

• Probe for high-throughput screening applications

• Fluorescent marker in biomedical screening protocols

• Diagnostic tool for cytotoxicity or component of diagnostic kit that utilizes fluorescent proteins.

Licensable Materials

• The nucleotide sequences of fluorescent protein

• Fusion construct to LC3A autophagy marker protein or mitochondria targeted peptide.

Dated: June 10, 2025.
Michael A. Shmilovich,
Acting Director, National Heart, Lung, and Blood Institute, Office of Technology Transfer and Development.

[FR Doc. 2025-10854 Filed 6-13-25; 8:45 am]

BILLING CODE 4140-01-P